DEPARTMENT OF TRANSPORTATION

Federal Highway Administration

Notice of Final Federal Agency Actions on Proposed Highways in Washington

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1)-(2). The actions relate to various proposed transit and road improvement projects within the Interstate 405 (I-405) Corridor in the State of Washington. Those actions grant licenses, permits, and approvals for the projects.

DATES: By this notice, the FHWA is advising the public of final agency actions subject to 23 U.S.C. 139(l)(1)-(2). A claim seeking judicial review of the Federal agency actions on any of the listed highway projects will be barred unless the claim is filed on or before April 30, 2007. If the Federal law that authorizes judicial review of a claim provides a time period of less than 180 days for filing such claim, then that shorter time period still applies.

FOR FURTHER INFORMATION CONTACT: Stephen Boch, Major Project Oversight Manager, Federal Highway Administration, Jackson Federal Building, 915 2nd Avenue, Room 3142, Seattle, Washington, 98174; telephone: (206) 220-7536; and e-mail: Steve.Boch@fhwa.dot.gov. The FHWA Washington Division's Oversight Manager's regular office hours are between 8 a.m. and 4:30 p.m. (Pacific Time). You may also contact Allison Ray, I-405 Environmental Manager, Washington State Department of Transportation, 600-108th Avenue NE., Suite 405, Bellevue, Washington, 98004; telephone: (425) 456-8500; and e-mail: rayalli@wsdot.wa.gov. The I-405 Corridor Program's regular office hours are between 8 a.m. and 5 p.m. (Pacific Time).

SUPPLEMENTARY INFORMATION: Notice is hereby given that the FHWA and other Federal agencies have taken final agency actions by issuing licenses, permits, and approvals for the I-405 Corridor from the interchange with Interstate 5 in Tukwila to the interchange with Interstate 5 in Lynnwood and related I-405 Corridor Program projects in King and Snohomish Counties, Washington. Corridor improvements, phased over the next 20 to 30 years based on the availability of funding, include adding up to two new lanes in each direction to I-405, a corridor-wide bus rapid transit system and increased local transit. Corridor improvements also include improving the SR 167/I-405 interchange and some key arterials, expanding transit centers, adding approximately 5,000 park-and-ride spaces, and providing improved and new pedestrian / bicycle connections.

The actions by the Federal agencies on this project, and the laws under which such actions were taken, are described in the corridor-level final environmental impact statement (FEIS), Record of Decision (ROD), in project-level environmental assessments (EA) and Finding of No Significant Impact (FONSI), and a documented categorical exclusion (CE), and in other documents in the FHWA administrative record for the project. The FEIS, EAs, CE, and other documents from the FHWA administrative record files for the listed projects are available by contacting the FHWA or the Washington State Department of Transportation at the addresses provided above.

This notice applies to all Federal agency decisions on the listed projects as of the issuance date of this notice and all laws under which such actions were taken, including but not limited to:

1. General: National Environmental Policy Act [42 U.S.C. 4321-4351]; Federal-Aid Highway Act [23 U.S.C. 109].

2. Air: Clean Air Act, as amended [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544]; Anadromous Fish Conservation Act [16 U.S.C. 757(a)-757(g)]; Fish and Wildlife Coordination Act [16 U.S.C. 661-667(d)]; Magnuson-Stevenson Fishery Conservation and Management Act of 1976, as amended [16 U.S.C. 1801 et seq.].

5. Historic and Cultural Resources: Section 106 of the National Historic Preservation Act of 1966, as amended [16 U.S.C. 470(f) et seq.]; Archaeological Resources Protection Act of 1977 [16 U.S.C. 470(aa)-11]; Archaeological and Historic Preservation Act [16 U.S.C. 469-469(c)]; Native American Grave Protection and Repatriation Act [25 U.S.C. 3001-3013].

6. Social and Economic: Civil Rights Act of 1964 [42 U.S.C. 2000(d)-2000(d)(1)]; American Indian Religious Freedom Act [42 U.S.C. 1996]; Farmland Protection Policy Act [7 U.S.C. 4201-4209]; the Uniform Relocation Assistance and Real Property Acquisition Policies Act of 1970, as amended [42 U.S.C. 61].

7. Wetlands and Water Resources: Clean Water Act, 33 U.S.C. 1251-1377 (Section 404, Section 401, Section 319); Coastal Zone Management Act [16 U.S.C. 1451-1465]; Land and Water Conservation Fund [16 U.S.C. 4601-4604]; Safe Drinking Water Act [42 U.S.C. 300(f)-300(j)(6)]; Rivers and Harbors Act of 1899 [33 U.S.C. 401-406]; TEA-21 Wetlands Mitigation [23 U.S.C. 103(b)(6)(m), 133(b)(11)]; Flood Disaster Protection Act [42 U.S.C. 4001-4128].

8. Hazardous Materials: Comprehensive Environmental Response, Compensation, and Liability Act [42 U.S.C. 9601-9675]; Superfund Amendments and Reauthorization Act of 1986 [PL 99-499]; Resource Conservation and Recovery Act [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

The projects subject to this notice are:

1. Project Location: Tukwila, Renton, Newcastle, Bellevue, Kirkland, Bothell, and Lynnwood; King and Snohomish Counties; I-405. Project Reference Number: STP 4053(840). Project type: The “I-405 Corridor Program” consists of multi-modal improvements along the approximate 30-mile corridor of I-405. NEPA document: Corridor-level FEIS, June 2002; Record of Decision (ROD), October 9, 2002.

2. Project Location: Bellevue, Kirkland and Bothell; King County; I-405. Project Reference Number: Since federal funding is not currently available for this project, an FHWA project number has not been established. Project type: The “I-405 SR 520 to SR 522—Kirkland Nickel Project” is located along a 7.6-mile section of I-405 between SR 520 and SR 522. It consists of a new northbound general-purpose lane on I-405 from the NE 70th Street interchange to the NE 124th Street interchange, a new southbound general-purpose lane from just south of the SR 522 interchange to just north of the SR 520 interchange, and reconfiguration of the interchange at NE 116th Street to improve traffic operations. NEPA document: EA, February 2005; Finding of No Significant Impact (FONSI), signed April 14, 2005.

3. Project Location: Bellevue, King County, I-405. Project Reference Number: Since federal funding is not currently available for this project, an FHWA project number has not been established. Project type: The “I-405 Bellevue Nickel Improvement Project—I-90 to Southeast 8th Street” extends along a 2-mile section of I-405 between I-90 and SE 8th Street. It consists of one new general-purpose lane in each direction along I-405 and extends the existing outside southbound HOV lane north from I-90 near the Wilburton tunnel to SE 8th Street. NEPA document: EA, January 2006; Finding of No Significant Impact (FONSI), signed August 11, 2006.

4. Project Location: Bellevue, King County, I-405. Project Reference Number: Since federal funding is not currently available for this project, an FHWA project number has not been established. Project type: The “I-405, 112th Ave SE to I-90 Widening Project” extends along a 2-mile section of I-405 starting at the I-405 and 112th Ave SE interchange and extending to just north of the I-90 and I-405 interchange. It consists of one new northbound auxiliary lane, a new three-lane southbound structure over I-90 and converting the existing southbound structure to a northbound HOV lane. NEPA document: DCE, signed June 9, 2006.

(Catalog of Federal Domestic Assistance Program Number 20.205, Highway Planning and Construction. The regulations implementing Executive Order 12372 regarding intergovernmental consultation on Federal programs and activities apply to this program.)

Authority: 23 U.S.C. 139(l)(1)-(2).

Issued on: October 26, 2006.
Stephen P. Boch,
Major Project Oversight Manager, Seattle, Washington.

[FR Doc. E6-18369 Filed 10-31-06; 8:45 am]

BILLING CODE 4910-RY-P